DEPARTMENT OF THE TREASURY

United States Mint

2018 Pricing of Numismatic Gold, Commemorative Gold, and Platinum Products Grid

AGENCY: United States Mint, Department of the Treasury.

ACTION: Notice.

SUMMARY: The United States Mint announces 2018 revisions to the pricing of gold and platinum numismatic products.

An excerpt of the grid appears below:

The complete 2018 Pricing of Numismatic Gold, Commemorative Gold, and Platinum Products Grid will be available at https://catalog.usmint.gov/coin-programs/american-eagle-coins.

Pricing can vary weekly dependent upon the London Bullion Market Association (LBMA) gold price weekly average. The pricing for all United States Mint numismatic gold and platinum products is evaluated every Wednesday and modified as necessary.

FOR FURTHER INFORMATION CONTACT: Cathy Olson; Numismatic and Bullion Directorate; United States Mint, 801 9th Street NW, Washington, DC 20220; or call 202-354-7500.

Authority: 31 U.S.C. 5111, 5112 & 9701.

Dated: January 17, 2018.
David Motl,
Acting Deputy Director, United States Mint.

[FR Doc. 2018-01007 Filed 1-19-18; 8:45 am]

BILLING CODE P